DEPARTMENT OF HEALTH AND HUMAN SERVICES

Centers for Disease Control and Prevention

Disease, Disability, and Injury Prevention and Control Special Emphasis Panel (SEP): Human Immunodeficiency Virus (HIV) Prevention Projects for the Commonwealth of Puerto Rico and the United States Virgin Islands, Program Announcement (PA) Number PS 08-803

In accordance with Section 10(a)(2) of the Federal Advisory Committee Act (Pub. L. 92-463), the Centers for Disease Control and Prevention (CDC) announces the aforementioned meeting.

Time and Date:

5 p.m.-7:30 p.m., March 24, 2008 (Closed)

9 a.m.-5 p.m., March 25, 2008 (Closed)

9 a.m.-5 p.m., March 26, 2008 (Closed)

Place: W Atlanta Hotel at Perimeter Center, 111 Perimeter Center, Atlanta, GA 30346.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of “Human Immunodeficiency Virus (HIV) Prevention Projects for the Commonwealth of Puerto Rico and the United States Virgin Islands, PA# PS 08-803.

National Center for HIV/AIDS, Viral Hepatitis, STD, and TB Prevention (NCHHSTP) determines that agency business requires its consideration of this matter on less than 15 days notice to the public and that no earlier notice of this meeting was possible.

Contact Person for More Information: Beth Wolfe, Prevention Support Office, National Center for HIV/AIDS, Viral Hepatitis, STD, and TB Prevention, CDC, 8 Corporate Square Boulevard,M/S E07, Atlanta, GA 30329, Telephone (404) 639-8531.

The Director, Management Analysis and Services Office, has been delegated the authority to sign Federal Register notices pertaining to announcements of meetings and other committee management activities, for both CDC and the Agency for Toxic Substances and Disease Registry.

Dated: March 7, 2008.
Elaine L. Baker,
Director, Management Analysis and Services Office, Centers for Disease Control and Prevention.

[FR Doc. 08-1013 Filed 3-10-08; 9:14 am]

BILLING CODE 4163-18-P